DEPARTMENT OF COMMERCE

International Trade Administration

[A-570-122]

Certain Corrosion Inhibitors From the People's Republic of China: Postponement of Preliminary Determination in the Less-Than-Fair-Value Investigation

AGENCY: Enforcement and Compliance, International Trade Administration, Department of Commerce.

DATES: Applicable June 16, 2020.

FOR FURTHER INFORMATION CONTACT: Lochard Philozin, AD/CVD Operations, Office I, Enforcement and Compliance, International Trade Administration, U.S. Department of Commerce, 1401 Constitution Avenue NW, Washington, DC 20230; telephone: (202) 482-4260.

SUPPLEMENTARY INFORMATION:

Background

On February 25, 2020, the Department of Commerce (Commerce) initiated a less-than-fair-value (LTFV) investigation of imports of certain corrosion inhibitors (corrosion inhibitors) from the People's Republic of China.¹ Currently, the preliminary determination is due no later than July 14, 2020.

¹ See Certain Corrosion Inhibitors from the People's Republic of China: Initiation of Less-Than-Fair-Value Investigation, 85 FR 12506 (March 3, 2020).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) The petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Wincom Incorporated.

On June 3, 2020, the petitioner submitted a timely request that Commerce postpone the preliminary determination in the LTFV investigation.³ The petitioner stated that it requests postponement of the preliminary determination because “{a}dditional time will be necessary to ensure that Commerce is able to sufficiently review all questionnaire responses and request clarification and additional information as necessary.” ⁴

³ See Petitioner's Letter, “Certain Corrosion Inhibitors from the People's Republic of China: Petitioner's Request for Postponement of the Preliminary Determination,” dated June 3, 2020.

⁴ Id.

For the reason stated above and because there are no compelling reasons to deny the request, Commerce, in accordance with section 733(c)(1)(A) of the Act, is postponing the deadline for the preliminary determination by 50 days (i.e., to 190 days after the date on which this investigation was initiated). As a result, Commerce will issue its preliminary determination no later than September 2, 2020. In accordance with section 735(a)(1) of the Act and 19 CFR 351.210(b)(1), the deadline for the final determination of this investigation will continue to be 75 days after the date of the preliminary determination, unless postponed at a later date.

Notification to Interested Parties

This notice is issued and published pursuant to section 733(c)(2) of the Act and 19 CFR 351.205(f)(1).

Dated: June 10, 2020.
Jeffrey I. Kessler,
Assistant Secretary for Enforcement and Compliance.

[FR Doc. 2020-12948 Filed 6-15-20; 8:45 am]

BILLING CODE 3510-DS-P